DEPARTMENT OF COMMERCE

International Trade Administration

[A-583-815]

Certain Welded Stainless Steel Pipe From Taiwan: Notice of Extension of Time Limit

AGENCY: Import Administration, International Trade Administration, U.S. Department of Commerce.

ACTION: Notice of extension of time limit.

SUMMARY: The Department of Commerce (“Department”) is extending the time limit for the final results of the antidumping duty administrative review of Certain Welded Stainless Steel Pipe from Taiwan, for the period December 1, 1997 through November 30, 1998.

EFFECTIVE DATE: April 6, 2000.

FOR FURTHER INFORMATION CONTACT: Juanita H. Chen or Robert Bolling, Enforcement Group III, Office 9, Import Administration, International Trade Administration, U.S. Department of Commerce, 1401 Constitution Avenue, NW, Room 7866, Washington, DC 20230, telephone (202) 482-0409, or (202) 482-3434, respectively.

SUPPLEMENTARY INFORMATION: On December 22, 1999, the Department published the preliminary results for this administrative review. See Certain Welded Stainless Steel Pipe from Taiwan: Preliminary Results of Antidumping Administrative Review and Intent to Revoke in Part, 64 FR 71728 (December 22, 1999). Section 751(a)(3)(A) of the Tariff Act of 1930, as amended (19 U.S.C. 1675(a)(3)(A)) (“Act”), requires the Department to complete an administrative review within 120 days of publication of the preliminary results. However, if it is not practicable to complete the review within the 120-day time limit, section 751(a)(3)(A) of the Act allows the Department to extend the time limit to 180 days from the date of publication of the preliminary results. The Department has determined that it is not practicable to issue its final results within the original 120-day time limit. See Decision Memorandum from Edward Yang to Joseph A. Spetrini, dated March 28, 2000. Therefore, in accordance with section 751(a)(3)(A) of the Act, we are extending the deadline for the final results in this review to 180 days from the date on which the notice of preliminary results was published. The fully extended deadline for the final results is June 19, 2000.

Dated: March 28, 2000.
Joseph A. Spetrini,
Deputy Assistant Secretary Enforcement Group III.

[FR Doc. 00-8567 Filed 4-5-00; 8:45 am]

BILLING CODE 3510-DS-P